DEPARTMENT OF COMMERCE

National Oceanic and Atmospheric Administration

[I.D. 111005A]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings December 5 through 13, 2005, at the Anchorage Hilton Hotel, 500 West 3rd Avenue, Anchorage, AK.

DATES: The Council's Advisory Panel (AP) will begin at 8 a.m., Monday, December 5 and continue through Friday December 9. The Scientific and Statistical Committee (SSC) will begin at 8 a.m. on Monday December 5 and continue through Wednesday, December 7, 2005.

The Council will begin its plenary session at 8 a.m. on Wednesday, December 7, continuing through December 13, 2005. All meetings are open to the public except executive sessions. The Enforcement Committee will meet Tuesday, December 6 in the Willow Room, from 1 p.m. to 5 p.m. to address enforcement aspects relevant to Council agenda items. The Ecosystem Committee will meet Tuesday, December 6 in the Birch Room, from 1 p.m. to 5 p.m. to discuss the Council's progress on the Aleutian Island Ecosystem plan initiatives and the progress on the broader ecosystem collaboration initiative.

ADDRESSES: Anchorage Hilton Hotel, 500 West 3rd Avenue, Anchorage, AK.

Council address: North Pacific Fishery Management Council, 605 W. 4th Avenue, Suite 306, Anchorage, AK 99501-2252.

FOR FURTHER INFORMATION CONTACT: Council staff, Phone: 907-271-2809.

SUPPLEMENTARY INFORMATION:

Council Plenary Session

The agenda for the Council's plenary session will include the following issues. The Council may take appropriate action on any of the issues identified.

1. Reports

Executive Director's Report

NMFS Management Report (includes update on rockfish court case, Chiniak Gully experiment, crab arbitration timing)

U.S. Coast Guard Report

Alaska Department of Fish & Game (ADF&G) Report (includes Alaska Board of Fisheries (BOF) proposals and subsistence halibut report)

U.S. Fish & Wildlife Service Report

Protected Species Report (Report on Right Whale critical habitat designation; Marine Mammal Commission update; Fishery Management Plan (FMP) level Biological Opinion update (BiOp))

2. Halibut Charter: Consider action to rescind Halibut Charter Individual Fishery Quotas (IFQ)

3. Community Development Quotas (CDQ): Final action on Environmental Assessment/Regulatory Impact Review (EA/RIR) on management CDQ reserves; review of alternatives/options for revised Amendment 71.

4. BSAI Pacific Cod Allocations: Discuss Trawl catcher vessel eligibility options, action as necessary.

5. Gulf of Alaska (GOA) Groundfish Rationalization: Review preliminary community data; review other data and information and revise alternatives/options as appropriate; review crab and salmon bycatch data, alternatives, and options, and take action as necessary, discussion paper on crew information.

6. Groundfish Management: Final review EA, review/approve GOA specifications and Stock Assessment Fishery Evaluation (SAFE) report, review/approve BSAI specifications and SAFE report; review discussion paper on BSAI pollock A-season start date; review strawman problem statement and discuss alternatives for Bering Sea Habitat Conservation/Essential Fish Habitat; Review BSAI salmon bycatch alternatives/options for closure areas.

7. Ecosystem Approaches: Report from interagency meeting and discussion of Aleutian Island Fishery Ecosystem Plan and Ecosystem Approach Management.

8. Staff Tasking: Committee and tasking; review discussion paper to change Maximum Retainable Amount (MRA) for the non-American Fisheries Act (AFA) catcher processor fleet, Vessel Monitor System (VMS) discussion.

9. Other Business

The SSC agenda will include the following issues:

1. C-2 IFQ Omnibus

2. Groundfish Management

3. Review Scallop Assessment Methods

4. Chiniak research

The Advisory Panel will address the same agenda issues as the Council (with the exception of C-1 Halibut Charter).

Special Accommodations

These meetings are physically accessible to people with disabilities. Requests for sign language interpretation or other auxiliary aids should be directed to Gail Bendixen at 907-271-2809 at least 7 working days prior to the meeting date.

November 10, 2005.
Tracey Thompson,
Acting Director, Office of Sustainable Fisheries, National Marine Fisheries Service.

[FR Doc. E5-6310 Filed 11-15-05; 8:45 am]

BILLING CODE 3510-22-S